DEPARTMENT OF COMMERCE

International Trade Administration

[A-423-814, A-580-899, A-791-824]

Acetone From Belgium, the Republic of Korea, and the Republic of South Africa: Postponement of Preliminary Determinations in the Less-Than-Fair-Value Investigations

AGENCY: Enforcement and Compliance, International Trade Administration, Department of Commerce.

DATES: Applicable July 15, 2019.

FOR FURTHER INFORMATION CONTACT: Alex Cipolla at (202) 482-4956 (Belgium); Sean Carey at (202) 482-3964 (Republic of Korea (Korea)); Charlotte Baskin-Gerwitz at (202) 482-4880 (Republic of South Africa (South Africa)), AD/CVD Operations, Office VII, Enforcement and Compliance, International Trade Administration, U.S. Department of Commerce, 1401 Constitution Avenue NW, Washington, DC 20230.

SUPPLEMENTARY INFORMATION:

Background

On March 11, 2019, the Department of Commerce (Commerce) initiated less-than-fair-value (LTFV) investigations of imports of acetone from Belgium, Korea, and South Africa.¹ Currently, the preliminary determinations are due no later than July 29, 2019.

¹ See Acetone from Belgium, the Republic of Korea, the Kingdom of Saudi Arabia, Singapore, the Republic of South Africa, and Spain: Initiation of Less-Than-Fair-Value Investigations, 84 FR 9755 (March 18, 2019) (Initiation Notice).

Postponement of Preliminary Determinations

Section 733(b)(1)(A) of the Tariff Act of 1930, as amended (the Act), requires Commerce to issue the preliminary determination in a LTFV investigation within 140 days after the date on which Commerce initiated the investigation. However, section 733(c)(1) of the Act permits Commerce to postpone the preliminary determination until no later than 190 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is the Coalition for Acetone Fair Trade.

On July 1, 2019, the petitioner submitted a timely request that Commerce postpone the preliminary determinations in these LTFV investigations.³ The petitioner stated that it requests postponement because the initial questionnaire responses “are substantially deficient, and it may not be possible for Commerce to obtain corrected responses within the current schedule.” ⁴

³ See Petitioner's Letter, “Acetone from Belgium/Petitioner's Request for Postponement of the Preliminary Determination,” dated July 1, 2019; Petitioner's Letter, “Acetone from Korea/Petitioner's Request for Postponement of the Preliminary Determination,” dated July 1, 2019; and Petitioner's Letter, “Acetone from South Africa/Petitioner's Request for Postponement of the Preliminary Determination,” dated July 1, 2019.

⁴ Id.

For the reasons stated above and because there are no compelling reasons to deny the request, Commerce, in accordance with section 733(c)(1)(A) of the Act, is postponing the deadline for the preliminary determinations by 50 days (i.e., 190 days after the date on which these investigations were initiated). As a result, Commerce will issue its preliminary determinations in these investigations no later than September 17, 2019. In accordance with section 735(a)(1) of the Act and 19 CFR 351.210(b)(1), the deadline for the final determinations of these investigations will continue to be 75 days after the date of the preliminary determinations, unless postponed at a later date.

Notification to Interested Parties

This notice is issued and published pursuant to section 733(c)(2) of the Act and 19 CFR 351.205(f)(1).

Dated: July 9, 2019.
Jeffrey I. Kessler,
Assistant Secretary for Enforcement and Compliance.

[FR Doc. 2019-14953 Filed 7-12-19; 8:45 am]

BILLING CODE 3510-DS-P